FEDERAL COMMUNICATIONS COMMISSION

Notice of Public Information Collection(s) Being Reviewed by the Federal Communications Commission

March 16, 2005.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 22, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0804.

Title: Universal Service—Health Care Providers Universal Service Program.

Form Nos: FCC Forms 465, 466, 466-A, and 467.

Type of Review: Revision of a currently approved collection.

Respondents: Business or other for-profit, not-for-profit institutions, and State, local or tribal government.

Number of Respondents: 6,450 respondents; 12,840 responses.

Estimated Time Per Response: .5-3 hours.

Frequency of Response: On occasion and one-time reporting requirement and third party disclosure requirement.

Total Annual Burden: 17,720 hours.

Total Annual Cost: Not Applicable.

Privacy Act Impact Assessment: Not applicable.

Needs and Uses: The Commission is seeking a revision to this information collection to address the following Paperwork Reduction Act implications resulting from the Second Report and Order, FCC 04-289. The Commission requires rural health care providers seeking discounts for mobile telecommunications services to: (1) Submit to the Universal Service Administrative Company (USAC) the number of sites the mobile rural health care provider will serve during the year; (2) document and explain why satellite service are necessary to achieve the health care delivery goals of the mobile telemedicine project, if the mobile rural health care provider serves less than eight different sites per year; (3) certify that they are serving eligible rural areas; (4) retain, and make available upon request, annual logs indicating: (i) the date and locations of each stop, and (ii) the number of patients served at each clinic stop; (5) provide to USAC documentation of the price for bandwidth equivalent wireline services in the urban area in State to be covered by the project; (6) where a telemedicine project serves locations in different States, the provider must provide the price for bandwidth equivalent wireline services in the urban area, proportional to the locations served in each State; (7) retain, and make available upon request, documentation explaining their allocation methods for five years; and (8) maintain records of purchases of supported services for at least five years. The FCC Forms 465, 466, 466-A and 467 have been revised to incorporate the new information collection requirements.

Federal Communications Commission.
Marlene H. Dortch,
Secretary.

[FR Doc. 05-5735 Filed 3-22-05; 8:45 am]

BILLING CODE 6712-01-P